DEPARTMENT OF COMMERCE

International Trade Administration

[A-570-941, C-570-942]

Certain Kitchen Appliance Shelving and Racks From the People's Republic of China: Continuation of Antidumping Duty Order and Countervailing Duty Order

AGENCY: Enforcement and Compliance, International Trade Administration, Department of Commerce.

SUMMARY: As a result of the determinations by the Department of Commerce (the Department) and the International Trade Commission (the ITC) in their five-year (sunset) reviews that revocation of the antidumping (AD) order on certain kitchen appliance shelving and racks (kitchen racks) from the People's Republic of China (PRC) would likely lead to a continuation or recurrence of dumping and material injury to an industry in the United States, the Department is publishing a notice of continuation of the AD order. As a result of the determinations by the Department and the ITC that revocation of the countervailing duty (CVD) order on kitchen racks from the PRC would likely lead to a continuation or recurrence of a countervailable subsidy and material injury to an industry in the United States, the Department is publishing a notice of continuation of the CVD order.

DATES: March 12, 2015.

FOR FURTHER INFORMATION CONTACT: Irene Gorelik, AD/CVD Operations, Office V (AD Order), or Mary Kolberg, AD/CVD Operations, Office I (CVD Order), Enforcement and Compliance, International Trade Administration, U.S. Department of Commerce, 14th Street and Constitution Avenue NW., Washington, DC 20230; telephone: (202) 482-6905 or (202) 482-1785, respectively.

SUPPLEMENTARY INFORMATION:

Background

The Department published its Final AD Determination and Final CVD Determination on kitchen racks from the PRC on July 24, 2009, and July 27, 2009, respectively.¹ On August 1, 2014, the Department initiated the first five-year (sunset) reviews of the AD Order and CVD Order, pursuant to section 751(c) of the Tariff Act of 1930, as amended (the Act).² As a result of its reviews, the Department determined that revocation of the AD order would likely lead to a continuation or recurrence of dumping and that revocation of the CVD order on kitchen racks from the PRC would likely lead to a continuation or recurrence of a countervailable subsidy. Therefore, the Department notified the ITC of the magnitude of the margins likely to prevail should the AD order be revoked, and the net countervailable subsidy rates likely to prevail should the CVD order be revoked.³ On February 27, 2015, the ITC published its determination, pursuant to section 751(c) of the Act, that revocation of the AD Order and the CVD Order on kitchen racks from the PRC would likely lead to a continuation or recurrence of material injury to an industry in the United States within a reasonably foreseeable time.⁴

¹ See Certain Kitchen Appliance Shelving and Racks From the People's Republic of China: Final Determination of Sales at Less Than Fair Value, 74 FR 36656 (July 24, 2009) (Final AD Determination); see also Certain Kitchen Appliance Shelving and Racks from the People's Republic of China: Final Affirmative Countervailing Duty Determination, 74 FR 37012 (July 27, 2009) (Final CVD Determination).

² See Initiation of Five-Year (“Sunset”) Review, 79 FR 44743 (August 1, 2014).

³ See Certain Kitchen Appliance Shelving and Racks from the People's Republic of China: Final Results of Expedited First Sunset Review of the Antidumping Duty Order, 79 FR 67423 (November 13, 2014) and accompanying Issues and Decision Memorandum; see also Certain Kitchen Appliance Shelving and Racks From China: Final Results of Expedited Sunset Review of the Countervailing Duty Order, 79 FR 73029 (December 9, 2014) and accompanying Issues and Decision Memorandum.

⁴ See Certain Kitchen Appliance Shelving and Racks From China: Determination (Investigation Nos. 701-TA-458 and 731-TA-1154 (Review)), 80 FR 10713 (February 27, 2015).

Scope of the Order

The merchandise covered by these orders consists of shelving and racks for refrigerators, freezers, combined refrigerator-freezers, other refrigerating or freezing equipment, cooking stoves, ranges, and ovens. Certain kitchen appliance shelving and racks are defined as shelving, baskets, racks (with or without extension slides, which are carbon or stainless steel hardware devices that are connected to shelving, baskets, or racks to enable sliding), side racks (which are welded wire support structures for oven racks that attach to the interior walls of an oven cavity that does not include support ribs as a design feature), and sub-frames (which are welded wire support structures that interface with formed support ribs inside an oven cavity to support oven rack assemblies utilizing extension slides) with the following dimensions:

• Shelving and racks with dimensions ranging from 3 inches by 5 inches by 0.10 inch to 28 inches by 34 inches by 6 inches; or

• Baskets with dimensions ranging from 2 inches by 4 inches by 3 inches to 28 inches by 34 inches by 16 inches; or

• Side racks from 6 inches by 8 inches by 0.10 inch to 16 inches by 30 inches by 4 inches; or

• Sub-frames from 6 inches by 10 inches by 0.10 inch to 28 inches by 34 inches by 6 inches.

The subject merchandise is comprised of carbon or stainless steel wire ranging in thickness from 0.050 inch to 0.500 inch and may include sheet metal of either carbon or stainless steel ranging in thickness from 0.020 inch to 0.20 inch. The subject merchandise may be coated or uncoated and may be formed and/or welded. Excluded from the scope of the order is shelving in which the support surface is glass.

The merchandise subject to these orders is currently classifiable in the Harmonized Tariff Schedule of the United States (HTSUS) statistical reporting numbers 8418.99.80.50, 7321.90.50.00, 7321.90.60.40, 7321.90.60.90, 8418.99.80.60, 8419.90.95.20, 8516.90.80.00, and 8516.90.80.10. Although the HTSUS subheadings are provided for convenience and customs purposes, the written description of the scope of the order is dispositive.

Continuation of the Orders

As a result of the determinations by the Department and the ITC that revocation of the AD order would likely lead to a continuation or recurrence of dumping and that revociation of the CVD order would likely lead to continuation or recurrence of a countervailable subsidy and material injury to an industry in the United States, pursuant to Section 751(d)(2) of the Act, the Department hereby orders the continuation of the AD and CVD orders on kitchen racks from the PRC. U.S. Customs and Border Protection will continue to collect AD and CVD cash deposits at the rates in effect at the time of entry for all imports of subject merchandise.

The effective date of the continuation of the AD and CVD orders will be the date of publication in the Federal Register of this notice of continuation. Pursuant to section 751(c)(2) of the Act, the Department intends to initiate the next five-year review of the AD order and CVD order not later than 30 days prior to the fifth anniversary effective date of the continuation.

These five-year sunset reviews and this notice are in accordance with section 751(c) of the Act and published pursuant to section 777(i)(1) of the Act and 19 CFR 351.218(f)(4).

Dated: March 6, 2015.
Paul Piquado,
Assistant Secretary for Enforcement and Compliance.

[FR Doc. 2015-05711 Filed 3-11-15; 8:45 am]

BILLING CODE 3510-DS-P